DEPARTMENT OF HOMELAND SECURITY

[Docket No. CISA-2022-0002]

Notice of Cybersecurity and Infrastructure Security Agency Cybersecurity Advisory Committee Meeting

AGENCY: Cybersecurity and Infrastructure Security Agency (CISA), Department of Homeland Security (DHS).

ACTION: Notice of Federal Advisory Committee Act (FACA) meeting; request for comments.

SUMMARY: CISA is publishing this notice to announce the following CISA Cybersecurity Advisory Committee meeting. This meeting will be partially closed to the public.

DATES: Meeting Registration: Registration to attend the meeting is required and must be received no later than 5 p.m. Eastern Time (ET) on June 20, 2022. For more information on how to participate, please contact CISA_CybersecurityAdvisoryCommittee@cisa.dhs.gov.

Speaker Registration: Registration to speak during the meeting's public comment period must be received no later than 5 p.m. ET on June 20, 2022.

Written Comments: Written comments must be received no later than 5 p.m. ET on June 20, 2022.

Meeting Date: The CISA Cybersecurity Advisory Committee will meet on June 22, 2022, from 8:30 a.m. to 2:30 p.m. CT. The meeting may close early if the committee has completed its business.

ADDRESSES: The CISA Cybersecurity Advisory Committee meeting will be held in-person at the Austin Central Library, located at 710 W Cesar Chavez Street, Austin, TX 78701. Capacity and location are subject to change based on DHS protocol regarding COVID-19 pandemic restrictions at the time of the meeting. Requests to participate will be accepted and processed in the order in which they are received. For access to the conference call bridge, information on services for individuals with disabilities, or to request special assistance, please email CISA_CybersecurityAdvisoryCommittee@cisa.dhs.gov.by 5 p.m. ET on June 20, 2022. The CISA Cybersecurity Advisory Committee is committed to ensuring all participants have equal access regardless of disability status. If you require a reasonable accommodation due to a disability to fully participate, please contact Ms. Megan Tsuyi at (202) 594-7374 as soon as possible.

Comments: Members of the public are invited to provide comments on issues that will be considered by the committee as outlined in the SUPPLEMENTARY INFORMATION section below. Associated materials that may be discussed during the meeting will be made available for review at https://www.cisa.gov/cisa-cybersecurity-advisory-committee by June 16, 2022. Comments should be submitted by 5 p.m. ET on June 20, 2022 and must be identified by Docket Number CISA-2022-0002. Comments may be submitted by one of the following methods:

• Federal eRulemaking Portal: www.regulations.gov. Please follow the instructions for submitting written comments.

• Email: CISA_CybersecurityAdvisoryCommittee@cisa.dhs.gov. Include the Docket Number CISA-2022-0002 in the subject line of the email.

Instructions: All submissions received must include the words “Department of Homeland Security” and the Docket Number for this action. Comments received will be posted without alteration to www.regulations.gov, including any personal information provided.

Docket: For access to the docket and comments received by the CISA Cybersecurity Advisory Committee, please go to www.regulations.gov and enter docket number CISA-2022-0002.

A public comment period is scheduled to be held during the meeting from 12:15 p.m. to 12:30 p.m. CT. Speakers who wish to participate in the public comment period must email CISA_CybersecurityAdvisoryCommittee@cisa.dhs.gov to register. Speakers should limit their comments to 3 minutes and will speak in order of registration. Please note that the public comment period may end before the time indicated, depending on the number of speakers who register to participate.

FOR FURTHER INFORMATION CONTACT: Megan Tsuyi, 202-594-7374, CISA_CybersecurityAdvisoryCommittee@cisa.dhs.gov.

SUPPLEMENTARY INFORMATION: The CISA Cybersecurity Advisory Committee was established under the National Defense Authorization Act for Fiscal Year 2021 (Pub.L. 116-283). Notice of this meeting is given under FACA, 5 U.S.C. Appendix (Pub. L. 92-463). The CISA Cybersecurity Advisory Committee advises the CISA Director on matters related to the development, refinement, and implementation of policies, programs, planning, and training pertaining to the cybersecurity mission of the Agency.

Agenda: The CISA Cybersecurity Advisory Committee will meet in an open session on Wednesday, June 22, 2022 from 12 p.m. to 2:30 p.m. CT to discuss CISA Cybersecurity Advisory Committee activities. The open session will include: (1) A period for public comment, and (2) updates from the six subcommittees, to including deliberation and voting on recommendations from the CISA Cybersecurity Advisory Committee to CISA.

The committee will also meet in a closed session from 8:30 a.m. to 12 p.m. CT to participate in an operational discussion that will address areas of critical cybersecurity vulnerabilities and priorities for CISA. Government officials will share sensitive information with CSAC members on initiatives and future security requirements for assessing cyber risks to critical infrastructure.

Basis for Closure: In accordance with section 10(d) of FACA and 5 U.S.C. 552b(c)(9)(B), The Government in the Sunshine Act, it has been determined that one agenda item requires closure, as the disclosure of the information that will be discussed would not be in the public interest.

This agenda item addresses areas of CISA's operations that include critical cybersecurity vulnerabilities and priorities for CISA. Government officials will share sensitive information with CSAC members on initiatives and future security requirements for assessing cyber risks to critical infrastructure. The premature disclosure of this information to the public would be likely to significantly frustrate implementation of proposed agency actions.

Due to the sensitive nature of this discussion, this portion of the meeting is required to be closed pursuant to section 10(d) of FACA and 5 U.S.C. 552b(c)(9)(B).

Megan Tsuyi,
Designated Federal Officer, CISA Cybersecurity Advisory Committee, Cybersecurity and Infrastructure Security Agency, Department of Homeland Security.

[FR Doc. 2022-11388 Filed 5-26-22; 8:45 am]

BILLING CODE 9110-9P-P